DEPARTMENT OF HEALTH AND HUMAN SERVICES

National Institutes of Health

Office of the Director, National Institutes of Health; Notice of Meeting

Pursuant to section 10(a) of the Federal Advisory Committee Act, as amended (5 U.S.C. Appendix 2), notice is hereby given of a meeting of the Office of AIDS Research Advisory Council.

The meeting will be open to the public, with attendance limited to space available. Individuals who plan to attend and need special assistance, such as sign language interpretation or other reasonable le accommodations, should notify the Contact Person listed below in advance of the meeting.

Name of Committee: Office of AIDS Research Advisory Council.

Date: October 25, 2006.

Time: 8:30 a.m. to 5 p.m.

Agenda: A Report of the Director addressing OAR initiatives. The topic of the meeting will focus on the newly restructured NIH-Sponsored AIDS Clinical Trials Networks as a national resource.

Place: National Institutes of Health, 5635 Fishers Lane, Terrace Level Conference Center, Rockville, MD 20852.

Contact Person: Christina Brackna, Executive Secretary, Office of Aids Research, Office of the Director, NIH, 2 Center Drive, MSC 0255, Building 2, Room 4W15, Bethesda, MD 20892, (301) 402-3555, cm53v@nih.gov.

Any interested person may file written comments with the committee by forwarding the statement to the Contact Person listed on this notice. The statement should include the name, address, telephone number and when applicable, the business or professional affiliation of the interested person.

Information is also available on the Institute's/Center's home page: http://www.nih.gov/od/oar/index.htm, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program;93.187, Undergraduate Scholarship Program for Individuals from Disadvantaged Backgrounds, National Institutes of Health, HHS)
Dated: September 25, 2006.
Anna Snouffer,
Acting Director, Office of Federal Advisory Committee Policy.

[FR Doc. 06-8412 Filed 9-29-06; 8:45 am]

BILLING CODE 4140-01-M